DEPARTMENT OF THE TREASURY

Community Development Financial Institutions Fund

Funding Opportunities: New Markets Tax Credit (NMTC) Program; CY 2021 Allocation Round; Correction

AGENCY: Community Development Financial Institutions Fund, Department of the Treasury.

ACTION: Notice; correction.

SUMMARY: The Community Development Financial Institutions Fund (CDFI Fund) published a document in the Federal Register of November 8, 2021, concerning the Notice of Allocation Availability (NOAA) inviting Applications for the Calendar Year (CY) 2021 Allocation Round of the New Markets Tax Credit (NMTC) Program. On page 61839, in Table 1—CY 2021 Allocation Round NMTC Program Critical Deadlines for Applicants, under the Deadline/date header, it incorrectly states that the deadline to submit an amendment request to remove a Controlling Entity from Allocation Agreement(s) is March 21, 2021 when in fact the deadline to submit such an amendment is March 21, 2022. Processing this Action will correct the misinformation that was published.

FOR FURTHER INFORMATION CONTACT: Christopher Allison, Program Manager, NMTC Program, CDFI Fund; (202) 653-0300 (this is not a toll free number).

SUPPLEMENTARY INFORMATION:

Correction

In the Federal Register of November 8, 2021, in FR Doc 2021-24310, on page 61839, in Table 1—CY 2021 Allocation Round NMTC Program Critical Deadlines for Applicants, under the Deadline/date header, correct the ninth entry to read: March 21, 2022.

Executive Summary: This notice announces the correction that the deadline to submit an amendment request to remove a Controlling Entity from Allocation Agreement(s) is March 21, 2022.

Capitalized terms in this correction to the NOAA have the respective meanings assigned to them in the NOAA, NMTC Program Allocation Application, Internal Revenue Code (IRC) § 45D or the IRS NMTC regulations. Application materials may be found on the CDFI Fund's website at www.cdfifund.gov/nmtc.

All other information and requirements set forth in the NOAA published on November 8, 2021, shall remain effective, as published.

Jodie L. Harris,
Director, Community Development Financial Institutions Fund.

[FR Doc. 2021-27039 Filed 12-10-21; 8:45 am]

BILLING CODE P